DEPARTMENT OF HOUSING AND URBAN DEVELOPMENT

[Docket No. FR-7050-N-13]

Notice of Emergency Approval of an Information Collection: Economic Development Initiative Community Project Funding Grants; OMB Control No.: 2506-0217

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: April 21, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. Persons with hearing or speech impairments may access this number through TTY by calling the toll-free Federal Relay Service at (800) 877-8339.

FOR FURTHER INFORMATION CONTACT: Holly A. Kelly, Congressional Grants Division, Department of Housing and Urban Development, 451 Seventh Street SW, Washington, DC 20410; telephone number 202-402-6324 ext. 6324 (this is not a toll-free number). Persons with hearing or speech impairments may access these numbers via TTY by calling the Federal Relay Service at 800-877-8339 (this is a toll-free number). Interested persons may also email: CPFGrants@hud.gov.

SUPPLEMENTARY INFORMATION: This notice informs the public that HUD has submitted to OMB a request for approval of the information collection described in Section A.

A. Overview of Information Collection

Title of Information Collection: Economic Development Initiative—Community Project Funding Congressional Earmarks.

OMB Approval Number: 2506-0217.

Type of Request: New.

Form Number: SF424, SF424B, SFLLL, SF1199A, HUD27054, HUD27056.

Description of the need for the information and proposed use: This information will be collected to provide funding to congressional identified grantees.

Respondents: State, local governments, non-profit organizations, tribal communities as identified by congress.

Estimated Number of Respondents: 1,000.

Estimated Number of Responses: 1,000.

Frequency of Response: On occasion.

Average Hours per Response: 4.

Total Estimated Burdens: 4,000.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2022-07956 Filed 4-13-22; 8:45 am]

BILLING CODE 4210-67-P